CIVIL RIGHTS COLD CASE RECORDS REVIEW BOARD

[Agency Docket Number: CRCCRRB-2026-0003-N]

Notice of Formal Determination on Records Release

AGENCY: Civil Rights Cold Case Records Review Board.

ACTION: Notice.

SUMMARY: The Civil Rights Cold Case Records Review Board previously reviewed and made formal disclosure determinations on records related to civil rights cold case incident 2024-003-041 in which the Department of Justice proposed postponements. The Department later proposed 6 additional postponements. On October 10, 2025, the Review Board determined that 63 pages in full and 43 pages in part produced by the Department of Justice should be publicly disclosed in the Civil Rights Cold Case Records Collection. By issuing this notice, the Review Board complies with the Civil Rights Cold Case Records Collection Act of 2018 that requires the Review Board to publish in the Federal Register its determinations on the disclosure or postponement of records in the Collection no more than 14 days after the date of its decision.

FOR FURTHER INFORMATION CONTACT: Stephannie Oriabure, Chief of Staff, Civil Rights Cold Case Records Review Board, 1800 F Street NW, Washington, DC 20405, (771) 221-0014, info@coldcaserecords.gov.

SUPPLEMENTARY INFORMATION:

Incident identifier | Postponement identifier | Review board decision
2024-003-041 | 2024-DOJ-03-0643a | Reject.
2024-003-041 | 2024-DOJ-03-0649a | Reject.
2024-003-041 | 2024-DOJ-03-0649b | Reject.
2024-003-041 | 2024-DOJ-03-0650a | Reject.
2024-003-041 | 2024-DOJ-03-0650b | Reject.
2024-003-041 | 2024-DOJ-03-0715a | Reject.

Authority: Public Law 115-426, 132 Stat. 5489 (44 U.S.C. 2107).

Dated: October 23, 2025.
Stephannie Oriabure,
Chief of Staff.

[FR Doc. 2025-21344 Filed 11-26-25; 8:45 am]

BILLING CODE 6820-SY-P